DEPARTMENT OF COMMERCE

International Trade Administration

[C-570-037]

Certain Biaxial Integral Geogrid Products From the People's Republic of China: Notice of Postponement of Preliminary Determination in the Countervailing Duty Investigation

AGENCY: Enforcement and Compliance, International Trade Administration, Department of Commerce.

DATES: Effective Date: April 6, 2016.

FOR FURTHER INFORMATION CONTACT: Katie Marksberry, AD/CVD Operations, Office V, Enforcement and Compliance, U.S. Department of Commerce, 14th Street and Constitution Avenue NW., Washington, DC 20230; telephone: 202-482-7906.

SUPPLEMENTARY INFORMATION:

Background

On February 8, 2016, the Department of Commerce (“Department”) initiated the countervailing duty investigation of certain biaxial integral geogrid products from the People's Republic of China. See Certain Biaxial Integral Geogrid Products from the People's Republic of China: Initiation of Countervailing Duty Investigation, 81 FR 7745 (February 16, 2016). Currently, the preliminary determination is due no later than April 13, 2016.

Postponement of Due Date for Preliminary Determination

Section 703(b)(1) of the Tariff Act of 1930, as amended (“the Act”), requires the Department to issue the preliminary determination in a countervailing duty investigation within 65 days after the date on which the Department initiated the investigation. However, if the Department concludes that the parties concerned are cooperating, and that the case is extraordinarily complicated such that additional time is necessary to make the preliminary determination, section 703(c)(l)(B) of the Act allows the Department to postpone making the preliminary determination until no later than 130 days after the date on which the administering authority initiated the investigation. We have concluded that the parties concerned are cooperating and that the case is extraordinarily complicated, such that we will need more time to make the preliminary determination. Specifically, the Department finds that the instant case is extraordinarily complicated by reason of the number and complexity of the alleged countervailable subsidy practices, and the need to determine the extent to which particular alleged countervailable subsidies are used by individual manufacturers, producers and exporters.

Additionally, the Department notes that we issued questionnaires to the respondents in this case on March 1, 2016. The due date for these questionnaires is April 7, 2016, which is only six days before the unextended preliminary determination date. For these reasons we are fully extending the due date until 130 days after the Department's initiation for the preliminary determination. Therefore, the deadline for the completion of the preliminary determination is now June 17, 2016.

This notice is issued and published pursuant to section 703(c)(2) of the Act and 19 CFR 351.205(f)(1).¹

¹ We acknowledge that the Department inadvertently did not notify the parties to this investigation of this postponement within the timeframe provided in section 703(c)(2) of the Act.

Dated: March 31, 2016.
Paul Piquado,
Assistant Secretary for Enforcement and Compliance.

[FR Doc. 2016-07901 Filed 4-5-16; 8:45 am]

BILLING CODE 3510-DS-P